DEPARTMENT OF HOMELAND SECURITY

Federal Emergency Management Agency

[Docket ID: FEMA-2014-0001; OMB No. 1660—NEW]

Agency Information Collection Activities: Submission for OMB Review; Comment Request; Emergency Notification System (ENS).

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 27, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Emergency Notification System (ENS).

Type of information collection: New information collection.

OMB Number: 1660-NEW.

Form Titles and Numbers: None.

Abstract: The ENS contains contact information for FEMA emergency team members. The ENS uses this information to send email, call cell, home, work phones and SMS devices to inform team members they have been activated. Teams include FEMA HQ COOP, Hurricane Liaison Team (HLT), Urban Search & Rescue (US&R), Emergency Response Group (ERG), etc. The system can only be accessed via DHS OneNet.

Affected Public: State, Local or Tribal Government; Federal Government.

Estimated Number of Respondents: 500.

Estimated Total Annual Burden Hours: 8 hours.

Estimated Cost: The estimated annual cost to respondents for the hour burden is $146.16. There are no annual costs to respondents' operations and maintenance costs for technical services. There is no annual start-up or capital costs. The cost to the Federal Government is $173,401.85.

Dated: April 19, 2014.
Loretta Cassatt,
Branch Chief, Records, Mission Support, Federal Emergency Management Agency, Department of Homeland Security.

[FR Doc. 2014-09451 Filed 4-24-14; 8:45 am]

BILLING CODE 9111-23-P